FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 201175-002.

Title: Port of NY/NJ Sustainable Services Agreement.

Parties: APM Terminals North America, Inc.; Global Terminal & Container Services LLC; Maher Terminals LLC; New York Container Terminal, Inc.; and Port Newark Container Terminal LLC.

Filing Party: Carol N. Lambos, Esq.; The Lambos Firm, LLP; 303 South Broadway, Suite 410; Tarrytown, NY 10591

Synopsis: The amendment would allow the parties to enter into an agreement with the Port Authority of New York and New Jersey to discuss and agree on matters relating to environmentally sensitive, efficient, and secure marine terminal operations, including RFID technology; obtain and administer government grants to fund technology-related activities; meet with stakeholders to discuss deployment of RFID technologies; and to establish and manage an entity to implement and administer agreements reached regarding RFID and/or other similar technologies. The parties have requested expedited review.

By Order of the Federal Maritime Commission.
Dated: November 10, 2010.
Karen V. Gregory,
Secretary.

[FR Doc. 2010-28869 Filed 11-15-10; 8:45 am]

BILLING CODE P